DEPARTMENT OF STATE

[Public Notice: 9714]

60-Day Notice of Proposed Information Collection: PEPFAR Program Expenditures

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 14, 2016.

ADDRESSES: You may submit comments by any of the following methods:

• Web: Persons with access to the Internet may comment on this notice by going to www.Regulations.gov. You can search for the document by entering “Docket Number: DOS-2016-0048” in the Search field. Then click the “Comment Now” button and complete the comment form.

• Email: ZaidiIF@state.gov.

• Regular Mail: Send written comments to: Office of the US Global AIDS Coordinator and Health Diplomacy (S/GAC), U.S. Department of State, SA-22, 1800 G Street NW., Suite 10300, Washington, DC 20006.

• Fax: 202-663-2979.

You must include the DS form number (if applicable), information collection title, and the OMB control number in any correspondence.

FOR FURTHER INFORMATION CONTACT: Direct requests for additional information regarding the collection listed in this notice, including requests for copies of the proposed collection instrument and supporting documents, to Irum Zaidi, 1800 G St. NW., Suite 10300, SA-22, Washington DC 20006, who may be reached on 202-663-2440 or at ZaidiIF@state.gov.

SUPPLEMENTARY INFORMATION:

• Title of Information Collection: PEPFAR Program Expenditures.

• OMB Control Number: 1405-0208.

• Type of Request: Revision of a Currently Approved Collection.

• Originating Office: Office of the U.S. Global AIDS Coordinator and Health Diplomacy (S/GAC).

• Form Number: DS-4213.

• Respondents: Recipients of U.S. government funds appropriated to carry out the President's Emergency Plan for AIDS Relief (PEPFAR).

• Estimated Number of Respondents: 1627.

• Estimated Number of Responses: 1627.

• Average Time Per Response: 24 hours.

• Total Estimated Burden Time: 39,048 hours.

• Frequency: Annually.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The US President's Emergency Plan for AIDS Relief (PEPFAR) was established through enactment of the United States Leadership Against HIV/AIDS, Tuberculosis, and Malaria Act of 2003 (Pub. L. 108-25), as amended by the Tom Lantos and Henry J. Hyde United States Global Leadership Against HIV/AIDS, Tuberculosis, and Malaria Reauthorization Act of 2008 (Pub L. 110-293) (HIV/AIDS Leadership Act) to support the global response to HIV/AIDS. Data are collected from implementing partners in countries with PEPFAR programs using a standard tool (DS-4213) via an electronic web-based interface into which users directly upload data. These data are analyzed to produce mean and range in expenditures by partner per result/achievement for all PEPFAR program areas. These analyses then feed into partner and program reviews at the country level for monitoring and evaluation on an ongoing basis. Summaries of these data provide key information about program costs under PEPFAR on a global level. Applying expenditure results will improve strategic budgeting, identification of efficient means of delivering services, accuracy in defining program targets, and will inform allocation of resources to ensure the program is accountable and using public funds for maximum impact.

Methodology: Data will be collected in a web-based interface available to all partners receiving funds under PEPFAR. After implementing EA over the last few years, we learned that implementing partners (IPs) prefer the Microsoft Excel template based data collection process. By being able to download a template, prime IPs responsible for completing the submission are more effectively able to collaborate quickly with other key personnel and coordinate with other partners to enter the data. This approach also proves helpful where internet connectivity is not strong. After completing the Excel template, IPs upload the data to an automated system that further checks the data entered for quality and completeness. Automated checks reduce the time needed by IPs to complete the data cleaning process.

Dated: September 9, 2016.
Max L. Aguilar,
Deputy Coordinator for Management, Budget, and Operations, Office of the U.S. Global AIDS Coordinator, Department of State.

[FR Doc. 2016-22092 Filed 9-13-16; 8:45 am]

BILLING CODE 4710-10-P